NUCLEAR REGULATORY COMMISSION

Advisory Committee on the Medical Uses of Isotopes: Meeting Notice

AGENCY: U.S. Nuclear Regulatory Commission (NRC).

ACTION: Notice of Meeting.

SUMMARY: NRC will convene a meeting of the Advisory Committee on the Medical Uses of Isotopes (ACMUI) on October 24, 2006. A sample of agenda items to be discussed during the public sessions includes: (1) NARM Legislation Update; (2) Status of Specialty Board applications for NRC recognition; (3) Staff Actions for Authorized Medical Physicist and Radiation Safety Officer; (4) Interim Inventory and National Sealed Source Tracking; (5) Status of Medical Events; (6) NARM Guidance. To review the agenda, see http://www.nrc.gov/reading-rm/doc-collections/acmui/agenda/ or contact Mohammad Saba, by telephone at: (301) 415-7608, or via e-mail at: mss@nrc.gov.

Purpose: Discuss issues related to 10 CFR Part 35, Medical Use of Byproduct Material.

Date and Time for Closed Session Meeting: October 24, 2006, from 8 a.m. to 10:15 a.m. This session will be closed so that NRC staff can brief the ACMUI on information relating solely to internal personnel rules.

Dates and Times for Public Meetings: October 24, 2006, from 10:30 a.m. to 5 p.m.

Address for Public Meeting: U.S. Nuclear Regulatory Commission, Two White Flint North Building, Room T2B3, 11545 Rockville Pike, Rockville, MD 20852-2738.

FOR FURTHER INFORMATION CONTACT: Mohammad S. Saba by telephone at: (301) 415-7608 or via e-mail at: mss@nrc.gov of the Office of Nuclear Material Safety and Safeguards, U.S. Nuclear Regulatory Commission, Washington, DC 20555-0001.

Conduct of the Meeting

Leon S. Malmud, M.D., will chair the meeting. Dr. Malmud will conduct the meeting in a manner that will facilitate the orderly conduct of business. The following procedures apply to public participation in the meeting:

1. Persons who wish to provide a written statement should submit a reproducible copy to Mohammad S. Saba, U.S. Nuclear Regulatory Commission, Mail Stop T8F03, Washington DC 20555. Alternatively, an e-mail can be submitted to mss@nrc.gov. Submittals must be postmarked or e-mailed by October 17, 2006, and must pertain to the topics on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about January 25, 2007. This meeting will be held in accordance with the Atomic Energy Act of 1954, as amended (primarily Section 161a); the Federal Advisory Committee Act (5 U.S.C. App); and the Commission's regulations in Title 10, U.S. Code of Federal Regulations, Part 7.

4. Attendees are requested to notify Mohammad S. Saba, at his previously stated contact information, of their planned attendance if special services, such as for the hearing impaired, are necessary.

Dated at Rockville, Maryland, this 27th day of September, 2006.
For the Nuclear Regulatory Commission.
Andrew L. Bates,
Advisory Committee Management Officer.

[FR Doc. E6-16267 Filed 10-2-06; 8:45 am]

BILLING CODE 7590-01-P